DEPARTMENT OF THE INTERIOR

National Park Service

[NPS-WASO-CONC-24873; PPWOBSADC0, PPMVSCS1Y.Y0000]

Notice of Temporary Concession Contract for Fuel Sales, Convenience Retail Merchandise, RV and Campground Services in the Hite Area of Glen Canyon National Recreation Area, Arizona

AGENCY: National Park Service, Interior.

ACTION: Notice.

SUMMARY: The National Park Service intends to award a temporary concession contract to a qualified person for the conduct of certain visitor services within the Hite area of Glen Canyon National Recreation Area for a term not to exceed 3 years. The visitor services include fuel sales, convenience retail merchandise, RV, campground and other land-based services.

FOR FURTHER INFORMATION CONTACT: Jennifer Parker, Chief of Concessions, Intermountain Region, (303) 969-2661, 12795 W Alameda Parkway, Lakewood, CO 80228, or by email at jennifer_parker@nps.gov.

SUPPLEMENTARY INFORMATION: The National Park Service intends to award a temporary concession contract, TC-GLCA006-18, to a qualified person (as defined in 36 CFR 51.3). The National Park Service has determined that a temporary concession contract not to exceed 3 years is necessary in order to avoid interruption of visitor services, and has taken all reasonable and appropriate steps to consider alternatives to avoid an interruption of visitor services.

Authority: This action is issued pursuant to 36 CFR 51.24(a). This is not a request for proposals.

Dated: April 18, 2018.
Teri Austin,
Associate Director, Business Services.

[FR Doc. 2018-08599 Filed 4-24-18; 8:45 am]

BILLING CODE 4312-53-P